NATIONAL ARCHIVES AND RECORDS ADMINISTRATION

[NARA-2017-040]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by June 29, 2017. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road, College Park, MD 20740-6001.

Email: request.schedule@nara.gov.

Fax: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA), National Archives and Records Administration, 8601 Adelphi Road, College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2017-0001, 1 item, 1 temporary item). Records related to the Organic Certification Cost Share Program, including participant folders and reports.

2. Department of Agriculture, Farm Service Agency (DAA-0145-2017-0003, 1 item, 1 temporary item). Records related to the Emergency Forest Restoration Program, including producer folders and correspondence.

3. Department of Agriculture, Farm Service Agency (DAA-0145-2017-0004, 4 items, 4 temporary items). Records related to the Conservation Reserve, Grassroots Source Water Protection, Biofuels Infrastructure Partnership, and Geographically Disadvantaged Farmers or Ranchers programs. The records consist of producer folders and correspondence.

4. Department of the Air Force, Agency-wide (DAA-AFU-2017-0006, 1 item, 1 temporary item). Records relating to temperature uniformity surveys and system accuracy tests for heat treatment facilities and metals processing shops.

5. Department of Defense, Defense Logistics Agency (DAA-0361-2017-0003, 1 item, 1 temporary item). Records accounting for small arms from receipt to destruction.

6. Department of Homeland Security, Transportation Security Administration (DAA-0560-2017-0005, 1 item, 1 temporary item). Records related to routine internal audits of purchase card and check transactions.

7. Department of Justice, Executive Office for Immigration Review (DAA-0582-2017-0001, 5 items, 5 temporary items). Records related to immigration fraud and abuse prevention, including complaints, investigative case files, tracking data, internal newsletters, and working files.

8. Department of Justice, Executive Office for Immigration Review (DAA-0582-2017-0002, 7 items, 7 temporary items). Records related to immigration attorney discipline cases and misconduct complaints.

9. Department of the Navy, Agency-wide (DAA-NU-2015-0013, 15 items, 11 temporary items). Aeronautical and astronautical records including routine correspondence, maintenance records, working papers, daily operations, and related matters. Proposed for permanent retention are records relating to policy, engineering drawings, technical reports and publications, and experimental aircraft flight summaries.

10. Commodity Futures Trading Commission, Agency-wide (DAA-0180-2013-0005, 6 items, 3 temporary items). Reparations and enforcement cases involving dispute resolution between futures customers and futures trading professionals from 1989 to 2010 that were not appealed; the master file of an electronic information system used to track cases; and procedural letters and orders, notices of proceeding and appeals, exhibits, transcripts, and other working papers for reparations and enforcement cases starting in October 2010 and ongoing. Proposed for permanent retention are records of reparations and enforcement cases appealed to the Commission from 1989 to 2010; rulings, orders, complaints, sanction letters, and settlement documents for reparations and enforcement cases starting in 2010 and ongoing; and all reparations and enforcement cases from circa 1950 to 1988.

11. Office of the Director of National Intelligence, National Counterterrorism Center (N1-576-15-1, 1 item, 1 temporary item). Source data used to determine whether individuals are engaged in or suspected of involvement in terrorist activities.

12. Office of Government Ethics, Agency-wide (DAA-0522-2017-0001, 4 items, 4 temporary items). Master files of an electronic information system used for collecting and reviewing public financial disclosure reports, including periodic public reports of certain financial transactions, and supporting documentation.

Dated: May 19, 2017.
Laurence Brewer,
Chief Records Officer for the U.S. Government.

[FR Doc. 2017-11104 Filed 5-26-17; 8:45 am]

BILLING CODE 7515-01-P